NATIONAL AERONAUTICS AND SPACE ADMINISTRATION

[Notice 00-123]

NASA Advisory Council (NAC), Space Science Advisory Committee (SScAC), Sun-Earth Connection Advisory Subcommittee

AGENCY: National Aeronautics and Space Administration.

ACTION: Notice of meeting.

SUMMARY: In accordance with the Federal Advisory Committee Act, Public Law 92-463, as amended, the National Aeronautics and Space Administration announces a forthcoming meeting of the NASA Advisory Council, Space Science Advisory Committee, Sun-Earth Connection Advisory Subcommittee.

DATES: Wednesday, October 25, 2000, 8:30 a.m. to 5 p.m.; Thursday, October 26, 2000, 8:30 a.m. to 5 p.m; Friday, October 27, 2000, 8:30 a.m. to Noon.

ADDRESSES: National Aeronautics and Space Administration, Conference Room 6H46, 300 E Street, SW, Washington, DC, 20546.

FOR FURTHER INFORMATION CONTACT: Dr. George L. Withbroe, Code S, National Aeronautics and Space Administration, Washington, DC 20546, 202/358-2150.

SUPPLEMENTARY INFORMATION: The meeting will be open to the public up to the capacity of the room. The agenda for the meeting includes the following topics:

—Sun-Earth Connection Program Overview: Budget, Ongoing Program, Future Activities

—Research and Analysis Program

—Solar Terrestrial Probe Program

—Living with a Star Program

—Discussion and Writing Groups

It is imperative that the meeting be held on these dates to accommodate the scheduling priorities of the key participants. Visitors will be requested to sign a visitor's register.

Dated: October 5, 2000.
Beth M. McCormick,
Advisory Committee Management Officer, National Aeronautics and Space Administration.

[FR Doc. 00-26202 Filed 10-11-00; 8:45 am]

BILLING CODE 7510-01-P